DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by the party listed below.

DATES: All comments on the petition must be received by MSHA's Office of Standards, Regulations, and Variances on or before October 31, 2022.

ADDRESSES: You may submit comments identified by Docket No. MSHA-2022-050 by any of the following methods:

1. Federal eRulemaking Portal: https://www.regulations.gov. Follow the instructions for submitting comments for MSHA-2022-050.

2. Fax: 202-693-9441.

3. Email: petitioncomments@dol.gov.

4. Regular Mail or Hand Delivery: MSHA, Office of Standards, Regulations, and Variances, 201 12th Street South, Suite 4E401, Arlington, Virginia 22202-5452, Attention: S. Aromie Noe, Director, Office of Standards, Regulations, and Variances. Persons delivering documents are required to check in at the receptionist's desk in Suite 4E401. Individuals may inspect copies of the petition and comments during normal business hours at the address listed above. Before visiting MSHA in person, call 202-693-9455 to make an appointment, in keeping with the Department of Labor's COVID-19 policy. Special health precautions may be required.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2022-019-C.

Petitioner: Signal Peak Energy, LLC, 100 Portal Drive, Roundup, Montana 59072.

Mine: Bull Mountains Mine No. 1, MSHA ID No. 24-01950, located in Musselshell County, Montana.

Regulation Affected: 30 CFR 18.35(a)(5)(i), Portable (trailing) cables and cords.

Modification Request: The petitioner requests a modification of 30 CFR 18.35(a)(5)(i) to permit 1,000-foot versus the specified 700-foot No. 2 American Wire Gauge (AWG) 995-volt trailing cables for shuttlecars and roof bolters and to permit 1,000-foot versus the 850-foot 2/0 995-volt trailing cables for continuous mining machines.

The petitioner states that:

(a) The implementation of up to 1,000-foot trailing cables will eliminate the need for distribution boxes and their associated hazards, currently necessary to develop Bull Mountain Mine No. 1 pillar sizes in continuous mining sections.

(b) Minimizing the need for distribution boxes in continuous mining sections will reduce redundant electrical connections, reduce exposure to hazards related to setting breakers, and remove an installation that is prone to damage from passing equipment.

(c) The Bull Mountains Mine No. 1 runs continuous mining sections with two shuttlecars, one or two roof bolters, and two continuous mining machines.

(d) Cuts are made on 40-foot increments. Pillar dimensions are approved on centers up to 250 feet. Large block sizes are implemented for pillar stability, abutment control, and prevent ventilation pressure loss.

(e) The use of distribution boxes is currently necessary in areas where large pillar sizes are implemented. This includes Startlines, Recovery Rooms, and applications in Mains development.

(f) To comply with maximum trailing cable lengths, distribution boxes must be installed and advanced every crosscut in areas with pillar centers (240-foot × 184-foot and 222-foot × 90-foot).

(g) Distribution boxes are redundant pieces of electrical equipment that must be handled and advanced every crosscut, progressively, to achieve the same results as a 1,000-foot trailing cable.

The petitioner proposes the following alternative method:

(a) The maximum length of 995-volt trailing cables will be 1,000 feet. The size of 995-volt trailing cables will be:

(1) no smaller than 2/0 for continuous mining machines;

(2) no smaller than No. 2 AWG for roof bolters and shuttlecars.

(b) All circuit breakers used to protect 2 AWG trailing cables exceeding 700 feet in length or 2/0 cables exceeding 850 feet in length shall have circuit breakers properly calibrated and adjusted to trip at no more than the smallest of the following values:

(1) The setting specified in 30 CFR 75.601-1,

(2) The setting specified in the approval documentation for the machine, or

(3) 70 percent of the minimum phase to phase short-circuit current available at the end of the trailing cable.

(c) Cable size and maximum allowable circuit breaker instantaneous settings will be labeled at the breaker. In addition, permanent warning labels will be installed and maintained warning miners not to change or alter the short-circuit settings.

(d) Prior to each production shift, persons designated by the operator will visually examine trailing cables to ensure that the cables are in safe operating condition and that the instantaneous settings of calibrated circuit breakers are compliant with labeled settings.

(e) Any trailing cable that is not in safe operating condition shall be removed from service immediately and repaired or replaced.

(f) Each splice or repair to the trailing cables shall be made in a workmanlike manner and in accordance with the instructions of the manufacturer of the splice repair kit. Splices will be made with an MSHA-approved splice wrap.

(g) The petitioner's alternative method will not be implemented until all miners who have been designated to examine trailing cables and verify instantaneous settings have received all the elements of necessary training.

The petitioner asserts that the alternative method proposed will at all times guarantee no less than the same measure of protection afforded the miners under the mandatory standard.

Song-ae Aromie Noe,
Director, Office of Standards, Regulations, and Variances.

[FR Doc. 2022-21095 Filed 9-28-22; 8:45 am]

BILLING CODE 4520-43-P